DEPARTMENT OF ENERGY

Federal Energy Regulatory Commission

Notice of Intent To File Application for a New License

July 30, 2002.

Take notice that the following notice of intent has been filed with the Commission and is available for public inspection:

a. Type of filing: Notice of Intent to File an Application for New License.

b. Project No: 2101.

c. Date filed: July 18, 2002.

d. Submitted By: Sacramento Municipal Utility District.

e. Name of Project: Upper American River Project.

f. Location: Project is located in Sacramento County and EL Dorado County, California, along the Rubicon River, Silver Creek, and South Fork of the American River. Nearby cities include Placerville, South Lake Tahoe, Folsom, and Sacramento, California.

g. Filed Pursuant to: Section 15 of the Federal Power Act, 18 CFR 16.6.

h. Pursuant to Section 16.19 of the Commission's regulations, the licensee is required to make available the information described in Section 16.7 of the regulations. Such information is available from the Sacramento Municipal Utility District, 6301 S. Street, Hydro Relicensing Public Library, Sacramento, CA., 95817-1899, 916-648-1234.

i. FERC Contact: James Fargo, 202-219-2848. James.Fargo@Ferc.Gov.

j. Expiration Date of Current License: July 31, 2007.

k. Project Description: The project's facilities include three dams and storage reservoirs, eight diversion dams and eight powerhouses with a total generating capacity of approximately 68,800 kilowatts.

l. The licensee states its unequivocal intent to submit an application for a new license for Project No. 2101. Pursuant to 18 CFR 16.9(b)(1) each application for a new license and any competing license applications must be filed with the Commission at least 24 months prior to the expiration of the existing license. All applications for license for this project must be filed by July 31, 2005.

A copy of the Notice of Intent is on file with the Commission and is available for public inspection. This filing may also be viewed on the Web at http://www.ferc.gov using the “RIMS” link—select “Docket #” and follow the instructions (call 202-208-2222 for assistance). A copy is also available for inspection and reproduction at the address in the item above.

Linwood A. Watson, Jr.,
Deputy Secretary.

[FR Doc. 02-19649 Filed 8-2-02; 8:45 am]

BILLING CODE 6717-01-P